COMMISSION ON CIVIL RIGHTS

Agenda and Notice of Public Meeting of the Rhode Island Advisory Committee

Notice is hereby given, pursuant to the provisions of the rules and regulations of the U.S. Commission on Civil Rights, that a planning meeting of the Rhode Island Advisory Committee to the Commission will convene at 1 p.m. and adjourn at 4:30 pm on October 23, 2003, at the Tillinghast, Licht, Perkins, Smith & Cohen, LLP, 10 Weybosset Street—10th Floor, Providence, RI 02903. The purpose of the meeting is to prepare for the upcoming project, Present and Future of Racial Profiling in Rhode Island: Reviewing the Implementation of the Rhode Island Traffic Stops Act of 2000 and its Ramifications. The Committee will review and vote upon staff's draft project proposal and assign subcommittee members for various project tasks.

Persons desiring additional information, or planning a presentation to the Committee, should contact Marc Pentino of the Eastern Regional Office, (202) 376-7533 (TDD (202) 376-8116). Hearing-impaired persons who will attend the meeting and require there services of a sign language interpreter should contact the Regional Office at least ten (10) working days before the scheduled date of the meeting.

The meeting will be conducted pursuant to the provisions of the rules and regulations of the Commission.

Dated at Washington, DC, October 1, 2003.
Ivy L. Davis,
Chief, Regional Programs Coordination Unit.

[FR Doc. 03-26506 Filed 10-20-03; 8:45 am]

BILLING CODE 6335-01-P